DEPARTMENT OF ENERGY

Federal Energy Regulatory Commission

[Docket No. AD15-4-000]

Technical Conference on Environmental Regulations and Electric Reliability, Wholesale Electricity Markets, and Energy Infrastructure; Notice of Technical Conferences

Take notice that the Federal Energy Regulatory Commission (Commission) will hold a series of technical conferences to discuss implications of compliance approaches to the Clean Power Plan proposed rule, issued by the Environmental Protection Agency (EPA) on June 2, 2014.¹ In particular, the technical conferences will focus on issues related to electric reliability, wholesale electric markets and operations, and energy infrastructure. The Commission will hold a National Overview technical conference on February 19, 2015, from approximately 9:30 a.m. to 5:00 p.m. in the Commission Meeting Room at the Federal Energy Regulatory Commission, 888 First Street NE., Washington, DC 20426. Following the National Overview technical conference, the Commission will hold three regional technical conferences, on dates to be announced, in the following cities:

¹ Carbon Pollution Emission Guidelines for Existing Stationary Sources: Electric Utility Generating Units, Notice of Proposed Rulemaking, 79 FR 34,830 (June 18, 2014).

Eastern Region,² Washington, DC

² For purposes of this conference, the Eastern Region includes the following Commission-approved Order No. 1000 planning regions: ISO New England, Inc. (ISO-NE), PJM Interconnection, LLC (PJM), New York Independent System Operator (NYISO), Southeastern Regional Transmission Planning (SERTP), South Carolina Regional Transmission Planning (SCRTP), and Florida Reliability Coordinating Council (FRCC). This region also includes the Northern Maine Independent System Administrator (NMISA).

Central Region,³ St. Louis, MO

³ For purposes of this conference, the Central Region includes the following Commission-approved Order No. 1000 planning regions: Midcontinent Independent System Operator Inc. (MISO) and Southwest Power Pool (SPP). (continued . . .)

This region also includes the Electric Reliability Council of Texas (ERCOT).

Western Region,⁴ Denver, CO

⁴ For purposes of this conference, the Western Region includes all the areas with the Western Interconnection, including the California Independent System Operator (CAISO).

The National Overview technical conference will be Commission-led. The regional technical conferences will be staff-led. Commission members may participate in the regional technical conferences.

State, regional and/or federal plans for compliance with the proposed Clean Power Plan may impact FERC-jurisdictional markets, grid operations, and infrastructure. The technical conferences will provide a forum for interested persons to discuss how to address any issues concerning the reliability of the power grid and the efficient operation of wholesale electric markets that may arise in the context of potential state and regional compliance approaches to EPA's Clean Power Plan. Additionally, the technical conferences will provide an opportunity to discuss how compliance scenarios may impact existing infrastructure and drive the need for additional infrastructure, especially new electric transmission and natural gas pipeline facilities, and whether there are regulatory barriers that need to be addressed, and by whom, to ensure the timely development of those facilities.

The National Overview technical conference will include discussion of the following overarching topics: (1) Whether industry participants (state utility and environmental regulators, regulated entities, etc.) have the appropriate tools to identify reliability and/or market issues that may arise; (2) potential strategies for compliance with the EPA regulations and coordination with FERC-jurisdictional wholesale and interstate markets; and (3) how relevant planning entities, industry, and states coordinate reliability and infrastructure planning processes with state and/or regional environmental compliance efforts to ensure the adequate development of new infrastructure and to manage any potential reliability and operational impacts of proposed compliance plans.

Each of the three regional conferences will include discussion of the following topics: (1) Potential reliability impacts in each region under various compliance approaches; (2) potential impacts on power system operations and generator dispatch in each region under various compliance approaches; and (3) potential impact on each region's current or expected infrastructure (electric transmission, natural gas pipelines, generation, etc.) to address compliance with the proposed rule, and additional infrastructure that may be required.

Subsequent notices will be issued detailing the specific agenda and topics for discussion at the National Overview technical conference, and the date, time, venue and specific agenda and topics for discussion at each regional technical conference. Those interested in attending the National Overview conference are encouraged to register by close of business, February 13, 2015. You may register at the following Web page: https://www.ferc.gov/whats-new/registration/02-19-15-form.asp. Subsequent notices will provide details on registration for the regional technical conferences.

Information on the conferences will also be posted on the Calendar of Events on the Commission's Web site, http://www.ferc.gov, prior to the conferences. The National Overview technical conference will also be Webcast and transcribed. Anyone with Internet access who desires to listen to this event can do so by navigating to the Calendar of Events at www.ferc.gov and locating this event in the Calendar. The event will contain a link to the webcast. The Capitol Connection provides technical support for webcasts and offers the option of listening to the meeting via phone-bridge for a fee. If you have any questions, visit www.CapitolConnection.org or call 703-993-3100. Transcripts of the technical conference will be available for a fee from Ace-Federal Reporters, Inc. (202-347-3700 or 1-800-336-6646).

Commission conferences are accessible under section 508 of the Rehabilitation Act of 1973. For accessibility accommodations, please send an email to accessibility@ferc.gov or call toll free 1-866-208-3372 (voice) or 202-208-1659 (TTY), or send a FAX to 202-208-2106 with the required accommodations.

For more information about the technical conferences, please contact:

Logistical Information, Sarah McKinley, Office of External Affairs, Federal Energy Regulatory Commission, 888 First Street NE., Washington, DC 20426, (202) 502-8368, sarah.mckinley@ferc.gov.

Legal Information, Alan Rukin, Federal Energy Regulatory Commission, 888 First Street NE., Washington, DC 20426, (202) 502-8502, alan.rukin@ferc.gov.

Technical Information, Matthew Jentgen, Federal Energy Regulatory Commission, 888 First Street NE., Washington, DC 20426, (202) 502-8725, matthew.jentgen@ferc.gov.

Technical Information, Michael Gildea, Federal Energy Regulatory Commission, 888 First Street NE., Washington, DC 20426, (202) 502-8420, michael.gildea@ferc.gov.

Dated: December 9, 2014.
Kimberly D. Bose,
Secretary.

[FR Doc. 2014-29950 Filed 12-22-14; 8:45 am]

BILLING CODE 6717-01-P